DEPARTMENT OF TRANSPORTATION

Federal Aviation Administration

Notice of Intent To Rule on Application 00-03-C-00-AOO to Impose and Use the Revenue From a Passenger Facility Charge (PFC) at Altonna-Blair County Airport, Martinsburg, PA

AGENCY: Federal Aviation Administration (FAA), DOT.

ACTION: Notice of intent to rule on application.

SUMMARY: The FAA proposes to rule and invites public comment on the application to impose and use the revenue from a PFC at Altoona-Blair County Airport under the provisions of the Aviation Safety and Capacity Expansion Act of 1990 (Title IX of the Omnibus Budget Reconciliation Act of 1990) (Public Law 101-508) and Part 158 of the Federal Aviation Regulations (14 CFR Part 158).

DATES: Comments must be received on or before April 24, 2000.

ADDRESSES: Comments on this application may be mailed or delivered in triplicate to the FAA at the following address: Ms. Roxane Wren, Harrisburg Airports District Office, 3911 Hartzdale Drive, Suite 1100, Camp Hill, PA 17011.

In addition, one copy of any comments submitted to the FAA must be mailed or delivered to Mr. Charles E. Pillar, Jr., Airport Manager of the Blair County Airport Authority at the following address: Blair County Airport Authority, 2 Airport Drive, Martinsburg, PA 16662.

Air carriers and foreign air carriers may submit copies of written comments previously provided to the Blair County Airport Authority under section 158.23 of Part 158.

FOR FURTHER INFORMATION CONTACT: Roxane Wren, Program Specialist, Harrisburg Airports District Office, 3911 Hartzdale Drive, Suite 1100, Camp Hill, PA 17011, 717-730-2830. The application may be reviewed in person at this same location.

SUPPLEMENTARY INFORMATION: The FAA proposes to rule and invites public comment on the application to impose and use the revenue from a PFC at Altoona-Blair County Airport under the provisions of the Aviation Safety and Capacity Expansion Act of 1990 (Title IX of the Omnibus Budget Reconciliation Act of 1990) (Public Law 101-508) and Part 158 of the Federal Aviation Regulations (14 CFR Part 158).

On February 24, 2000, the FAA determined that the application to impose and use the revenue from a PFC submitted by Blair County Airport Authority was substantially complete within the requirements of 158.25 of Part 158. The FAA will approve or disapprove the application, in whole or in part, no later than May 25, 2000.

The following is a brief overview of the application.

PFC Application No.: 00-03-C-00-A00.

Level of the proposed PFC: $3.00.

Proposed charge effective date: August 1, 2003.

Proposed charge expiration date: August 1, 2003.

Total estimated PFC revenue: $240,239.00.

Brief description of proposed project(s):

—PFC Application Development

—Runway 12-30 and Taxiway D Lighting

—Security Fencing

—Avigation Easement Acquisition and Obstruction Removal

—Master Plan Update

—Land Acquisition

—Snow Removal Equipment

—Improve ARFF/SRE Building

—Runway 12-30 Rehabilitation

—Land Acquisition for Runway 12-30 Extension

Class or classes of air carriers which the public agency has requested not be required to collect PFCs: Air Taxi/Commercial Operators

Any person may inspect the application in person at the FAA office listed above under FOR FURTHER INFORMATION CONTACT and at the FAA regional airports office located at: Fitzgeral Federal Building #111, Airports Division, AEA-610, John F. Kennedy International Airport, Jamaica, New York, 11430.

In addition, any person may, upon request, inspect the application, notice and other documents germane to the application in person at the Blair County Airport Authority.

Issued in Camp Hill, PA on March 6, 2000.
Sharon A. Daboin,
Manager, Harrisburg ADO Eastern Region.

[FR Doc. 00-7196 Filed 3-22-00; 8:45 am]

BILLING CODE 4910-13-M